DEPARTMENT OF JUSTICE

Executive Office for Immigration Review

8 CFR Part 1292

Professional Conduct for Practitioners—Representation and Appearances

CFR Correction

In Title 8 of the Code of Federal Regulations, revised as of January 1, 2011, on page 1142, in § 1292.1, paragraph (a)(2) introductory text is corrected to read as follows:

§ 1292.1 Representation of others.

(a) * * *

(2) Law students and law graduates not yet admitted to the bar. A law student who is enrolled in an accredited U.S. law school, or a graduate of an accredited U.S. law school who is not yet admitted to the bar, provided that:

* * * * *

[FR Doc. 2011-33530 Filed 12-28-11; 8:45 am]

BILLING CODE 1505-01-D